DEPARTMENT OF DEFENSE

Office of the Secretary

[Docket ID: DoD-2025-HA-0211]

Submission for OMB Review; Comment Request

AGENCY: Office of the Assistant Secretary of Defense for Health Affairs (OASD(HA)), Department of Defense (DoD).

ACTION: 30-Day information collection notice.

SUMMARY: The DoD has submitted to the Office of Management and Budget (OMB) for clearance the following proposal for collection of information under the provisions of the Paperwork Reduction Act.

DATES: Consideration will be given to all comments received by December 26, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Centralized Credentials and Quality Assurance System (CCQAS); OMB Control Number 0720-0071.

Type of Request: Extension.

Number of Respondents: 62,500.

Responses per Respondent: 3.

Annual Responses: 187,500.

Average Burden per Response: 4 hours.

Annual Burden Hours: 750,000.

Needs and Uses: CQAS is a DoD, DHA system governed within the overall corporate sponsorship and policies of the OASD/HA. The information collection requirement is necessary to operate, manage, evaluate, and improve DoD clinical quality management and risk management programs. This information is essential for the DHA and DoD Services to support credentialing, privileging, and healthcare risk management of Active Duty, Reserve, Guard, Civil Service, contractors, and volunteer direct health care providers within the Military Health System.

Affected Public: Individuals or households.

Frequency: As required.

Respondent's Obligation: Voluntary.

DoD Clearance Officer: Mr. Reginald Lucas.

Dated: November 21, 2025.
Stephanie J. Bost,
Alternate OSD Federal Register Liaison Officer, Department of Defense.

[FR Doc. 2025-21156 Filed 11-25-25; 8:45 am]

BILLING CODE 6001-FR-P